FEDERAL MARITIME COMMISSION

Security for the Protection of the Public

Financial Responsibility To Meet Liability Incurred for Death or Injury to Passengers or Other Persons on Voyages; Notice of Issuance of Certificate (Casualty)

Notice is hereby given that the following have been issued a Certificate of Financial Responsibility to Meet Liability Incurred for Death or Injury to Passengers or Other Persons on Voyages pursuant to the provisions of Section 2, Public Law 89-777 (46 App. U.S.C. 817(d)) and the Federal Maritime Commission's implementing regulations at 46 CFR part 540, as amended:

Carnival Corporation

3655 N.W. 87th Avenue

Miami, FL 33178-2193

Vessel: Carnival Conquest

Delta Queen Steamboat Company, Inc. and American Queen Steamboat, LLC

1380 Port of New Orleans Place

New Orleans, LA 70130

Vessel: American Queen

Delta Queen Steamboat Company, Inc. and Delta Queen Steamboat, LLC

1380 Port of New Orleans Place

New Orleans, LA 70130

Vessel: Delta Queen

Delta Queen Steamboat Company, Inc. and Mississippi Queen Steamboat, LLC

1380 Port of New Orleans Place

New Orleans, LA 70130

Vessel: Mississippi Queen

Holland America Line Inc., Holland America Line N.V. and HAL Antillen N.V.

300 Elliott Avenue West

Seattle, WA 98119

Vessel: Zuiderdam

Norwegian Cruise Line Limited

7665 Corporate Center Drive

Miami, FL 33126

Vessel: Norwegian Sky

Norwegian Cruise Line Limited and Norwegian Dawn Limited

7665 Corporate Center Drive

Miami, FL 33126

Vessel: Norwegian Dawn

P & O Princess Cruises International Limited, Princess Cruise Lines, Ltd. and P & O Princess Cruises plc

Richmond House, Terminus Terrace

Southampton SO14 3PN

United Kingdom

Vessel: Oceana

Princess Cruise Lines, Ltd., P & O Princess Cruises International Limited, Brittany Shipping Corporation, Ltd. and P & O Princess Cruises plc

24305 Town Center Drive

Santa Clarita, CA 91355-4999

Vessel: Coral Princess

Princess Cruise Lines, Ltd., P & O Princess Cruises International Limited, P & O Princess Cruises plc and Copropriete du Navire R3

24305 Town Center Drive

Santa Clarita, CA 91355-4999

Vessel: Pacific Princess

Royal Caribbean Cruises Ltd. (d/b/a Royal Caribbean International) and Navigator of the Seas Inc.

1050 Caribbean Way

Miami, FL 33132-2096

Vessel: Navigator of the Seas

Royal Caribbean Cruises Ltd. (d/b/a Royal Caribbean International), RCL (UK) Ltd. and Halifax Leasing (September) Limited

1050 Caribbean Way

Miami, FL 33132-2096

Vessel: Brilliance of the Seas

Royal Olympic Cruises Ltd and Royal World Cruises Inc.

805 3rd Avenue, 18th Floor

New York, NY 10022

Vessel: Olympia Explorer

Royal Olympic Cruises Ltd and Olympic World Cruises Inc.

805 3rd Avenue, 18th Floor

New York, NY 10022

Vessel: Olympia Voyager

Silversea Cruises, Ltd. and Silver Cloud Shipping Company S.A.

110 East Broward Blvd.

Fort Lauderdale, FL 33301

Vessel: Silver Cloud

Dated: December 13, 2002.
Bryant L. VanBrakle,
Secretary.

[FR Doc. 02-31878 Filed 12-17-02; 8:45 am]

BILLING CODE 6730-01-P